EQUAL EMPLOYMENT OPPORTUNITY COMMISSION

Agency Information Collection Activities: Existing Collection

AGENCY: Equal Employment Opportunity Commission.

ACTION: Notice of information collection—proposed revision of Elementary-Secondary Staff Information Report (EEO-5).

SUMMARY: In accordance with the Paperwork Reduction Act (PRA), the Equal Employment Opportunity Commission (EEOC or Commission) announces that it has submitted to the Office of Management and Budget (OMB) a request for a three-year PRA approval of revisions to the currently approved Elementary-Secondary Staff Information Report (EEO-5).

DATES: Written comments on this notice must be submitted on or before January 6, 2025.

ADDRESSES: Written comments should be sent within 30 days of publication of this final notice to www.reginfo.gov/public/do/PRAMain. Find this information collection by selecting “Currently under Review—Open for Public Comments” or by using the search function.

FOR FURTHER INFORMATION CONTACT: Paul Guerino, Director, Data Development and Information Products Division, Office of Enterprise Data and Analytics (OEDA), Equal Employment Opportunity Commission, 131 M Street NE, Washington, DC 20507; (202) 921-2928 (voice), (800) 669-6820 (TTY) or email at OEDA@eeoc.gov. Requests for this notice in an alternative format should be made to the EEOC's Office of Communications and Legislative Affairs at (202) 921-3191 (voice), (800) 669-6820 (TTY), or (844) 234-5122 (ASL Video Phone).

SUPPLEMENTARY INFORMATION: A notice that the EEOC would be submitting this request was published in the Federal Register on August 16, 2024, allowing for a 60-day public comment period which ended on October 15, 2024.¹ The EEOC received no comments during the public comment period.²

¹ See Notice of Information Collection 89 FR 66716 August 16, 2024) at https://www.federalregister.gov/documents/2024/08/16/2024-18421/agency-information-collection-activities-existing-collection.

² Available at https://www.regulations.gov/docket/EEOC-2024-0007.

I. Background

A. The EEO-5 Report

Since 1973, the EEOC has required EEO-5 filers to submit workforce demographic data. All public elementary and secondary school systems and districts that are covered by title VII of the Civil Rights Act of 1964, as amended (title VII) ³ and that have 100 or more employees are required to file the workforce demographic data.

³ 42 U.S.C. 2000e, et seq.

B. The 60-Day Notice: Request for Three-Year PRA Approval of Revisions to the EEO-5

Pursuant to the PRA and OMB regulations found at 5 CFR 1320.8(d)(1), the Commission published a Notice in the Federal Register on August 16, 2024, soliciting public comments during a 60-day period (“60-day Notice”) on the Commission's intent to seek a three-year OMB approval of revisions to the currently approved EEO-5. In particular, in its 60-day Notice, the EEOC sought comments to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses. The 60-day Notice comment period ended on October 15, 2024.

Based on data from the most recent EEO-5 data collection reporting year (i.e., 2022), as well as ongoing updates by the EEOC to the EEO-5 frame (i.e., filer roster or master list), the EEOC anticipates the total number of filers submitting an EEO-5 report may increase to 10,500 per biennial collection. Accordingly, the burden estimates in this Notice are based on this revised estimate of the number of filers.

II. The Public Comments on the 60-Day Notice

The 60-day Notice was published in the Federal Register on August 16, 2024.⁴ The EEOC received no comments during the public comment period.⁵

⁴ Available at https://www.federalregister.gov/documents/2024/08/16/2024-18421/agency-information-collection-activities-existing-collection.

⁵ Available at https://www.regulations.gov/docket/EEOC-2024-0007.

III. Commission Decisions and Final EEOC Proposals to OMB

The EEOC Will Seek Three-Year Approval of Revisions to the Currently Approved EEO-5 Elementary-Secondary Staff Information Report

The Commission has decided it will seek a three-year approval by OMB of revisions to the EEO-5 Elementary-Secondary Staff Information Report as described in this Notice.

IV. Formal Paperwork Reduction Act Statement

A. Overview of Information Collection

Collection Title: Elementary-Secondary Staff Information Report (EEO-5).

OMB Number: 3046-0003.

Frequency of Report: Biennial.

Type of Respondent: Public elementary and secondary school systems and districts that have 100 or more employees and meet certain criteria.

Description of Affected Public: Public elementary and secondary school systems and districts that have 100 or more employees and meet certain criteria.

Reporting Hours: 17,927 hours per biennial collection.

Respondent Burden Hour Cost: $597,472.29 per biennial collection.

Federal Cost: $492,635 per biennial collection.

Number of Filers: 10,500 per biennial collection.⁶

⁶ This figure is based on the expanded frame of potentially eligible respondents and the response rate for the most recently completed EEO-5 data collection (the 2022 EEO-5 data collection).

⁷ 42 U.S.C. 2000e-8(c).

⁸ The EEOC's EEO-5 regulation is at 29 CFR part 1602 Subparts L and M. The EEOC is responsible for obtaining OMB's PRA approval for the EEO-5 report.

Number of Responses: 10,500 per biennial collection.

Number of Forms: 1.

Form Number: EEOC Form 168A.

Abstract: Section 709(c) of title VII requires employers to make and keep records relevant to the determination of whether unlawful employment practices have been or are being committed, to preserve such records, and to produce reports as the Commission prescribes by regulation or order.⁷ Pursuant to this statutory authority, the EEOC issued regulations prescribing the reporting and related record retention requirements for public elementary and secondary school systems and districts.⁸ The regulations require school systems or districts to make or keep all records necessary for completion of an EEO-5 submission and retain those records for three years, and require EEO-5 filers to retain a copy of each filed EEO-5 report for three years. These recordkeeping requirements are part of standard administrative practices, and as a result, the EEOC believes that any impact on burden would be negligible and nearly impossible to quantify. Additionally, the regulations require public elementary and secondary school systems and districts to file executed copies of the EEO-5 in conformity with the directions set forth in the form and accompanying instructions. Under this authority, public elementary and secondary school systems and districts with 100 or more employees are required to report biennially ⁹ the number of individuals they employ by activity assignment classification (i.e., job category) and by sex and race or ethnicity.

⁹ Beginning in 1982, the EEO-5 report has been collected biennially in even-numbered years. Prior to 1982, the EEO-5 report was collected annually.

Please note that on March 28, 2024, OMB published revisions, the first since 1997, to its Statistical Policy Directive No. 15: Standards for Maintaining, Collecting, and Presenting Federal Data on Race and Ethnicity.” See https://spd15revision.gov/. The revisions include, for example, using a single combined race and ethnicity question and adding Middle Eastern or North African (MENA) as a new minimum reporting category. Federal agencies, including the EEOC, are required to bring their data collections into compliance with these standards by March 28, 2029. Because the EEOC's current EEO-5 PRA clearance expires January 31, 2025, the agency is not proposing updates to its collection of race and ethnicity data under this Notice in order to provide filers with sufficient notice of the revised standards and to give the EEOC sufficient time to implement the revisions across its EEO collections.

These data are currently collected electronically by the EEOC through a web-based data collection application (i.e., portal) referred to as the EEO-5 Online Filing System (OFS).¹⁰ Filers must submit their data electronically to the web-based portal by either manual entry or by uploading a data file. The individual EEO-5 reports are confidential.¹¹ EEO-5 data are used by the EEOC to investigate charges of employment discrimination against public elementary and secondary school systems and districts and to publish periodic reports on workforce demographics.¹²

¹⁰ EEO-5 filers may access the EEO-5 Online Filing System (OFS) through the EEOC's dedicated EEO-5 website at www.eeocdata.org/eeo5.

¹¹ All reports and any information from individual reports are subject to the confidentiality provisions of Section 709(e) of title VII of the Civil Rights Act of 1964, 42 U.S.C. 2000e-8(e), as amended (title VII) and may not be made public by the EEOC prior to the institution of any proceeding under title VII involving the EEO-5 data. Any EEOC employee who violates this prohibition may be found guilty of a criminal misdemeanor and could be fined or imprisoned. The confidentiality requirements allow the EEOC to publish only aggregated data, and only in a manner that does not identify any particular filer or reveal any individual employee's personal information. With respect to other Federal agencies with a legitimate law enforcement purpose, the EEOC gives access to information collected under title VII only if the agencies agree in writing to comply with the confidentiality provisions of title VII. In addition, section 709(d) of title VII (42 U.S.C. 2000e-8(d)) provides that the EEOC shall furnish upon request and without cost to State or local civil rights agencies information about employers in their jurisdiction on the condition that they not make it public prior to starting a proceeding under State or local law involving such information. The EEOC shares EEO-5 data with Fair Employment Practices Agencies (FEPAs) pursuant to Worksharing Agreements that impose obligations on the contracted FEPA with respect to confidentiality, privacy, and data security. On a case-by-case basis, the EEOC may share EEO-5 data with a FEPA that does not have a Worksharing Agreement, but only if that FEPA agrees to comply with confidentiality, privacy, and data security obligations similar to those imposed on FEPAs with Worksharing Agreements.

¹² Any reports the EEOC publishes based on EEO-5 data include only aggregated data that protect the confidentiality of each employer's information, as well as the privacy of each employee's personal information.

B. Burden Statement

The EEOC's Office of Enterprise Data and Analytics (OEDA) administers the agency's data collections, including the EEO-5. Since OEDA's creation in 2018, the EEOC has undertaken several efforts to modernize the agency's data collections and improve the quality of data collected. OEDA has also streamlined functions, such as providing additional self-service options, resource materials, and an online support message center.

As part of these ongoing modernization efforts, OEDA has undertaken measures to enhance the agency's EEO-5 data frame of potentially eligible filers as well as changes that make the EEO-5 filing process more user-friendly and less burdensome. By comparing the EEOC's 2022 EEO-5 frame to the U.S. Department of Education's publicly available Common Core of Data (CCD) database,¹³ OEDA identified approximately 4,000 additional public elementary and secondary school systems and districts that may be eligible to file during the next biennial data collection. With the addition of these filers to the EEO-5 frame and considering response rates during the 2022 EEO-5 data collection, OEDA now estimates 10,500 potential respondents (a 47% increase) to the agency's next EEO-5 data collection.¹⁴

¹³ According to the U.S. Department of Education, the CCD is the department's primary database on public elementary and secondary education in the United States. The CCD serves as a “comprehensive, annual, national database” of all public elementary and secondary schools and school districts. See https://nces.ed.gov/ccd/.

¹⁴ This estimate covers public elementary and secondary school systems or districts with 100 or more employees within the 50 United States and the District of Columbia as well as the Commonwealth of Puerto Rico, the U.S. Virgin Islands, and the U.S. Possessions of American Samoa, Guam, Northern Mariana Islands, and Wake Island. Please note that 10,500 respondents may ultimately turn out to be an overestimate. Following the initial enhancement of the EEO-5 frame, collection data may yield an unknown number of ineligible filers.

The EEOC has also updated its methodology for calculating the biennial burden of the EEO-5 to better reflect the types of personnel responsible for preparing and filing these reports on behalf of their employers. Based upon job titles provided during the 2022 EEO-5 data collection by individuals completing the report within the EEO-5 Online Filing System (OFS), the EEOC has identified six specific job categories which account for the largest amount of time spent biennially on EEO-5 reporting. These job categories include: (1) Human Resource Specialists; (2) Executive-Level Staff; (3) Secretaries and Administrative Assistants; (4) Bookkeeping, Accounting, and Auditing Clerks; (5) Administrative Services and Facilities Managers; and (6) Database Administrators and Architects.¹⁵

¹⁵ Hourly wage rates for these six job categories were obtained from the U.S. Department of Labor's Bureau of Labor Statistics (BLS) Occupational Outlook Handbook. See https://www.bls.gov/ooh/. Please note that the actual job titles reported during the 2022 EEO-5 data collection were collapsed into these six BLS occupational categories.

¹⁶ The time estimates are based on the average time elapsed among filers who completed their reports during the same calendar day within the EEO-5 OFS. This methodology was chosen because a single-session submission would also approximate the completion time over several, multi-day sessions.

Additionally, the EEO-5 OFS captures detailed information on when each filer starts and certifies its report. The EEOC used this information from the most recent EEO-5 data collection to calculate more precise burden hour estimates.¹⁶ In Table 1 below, the estimated average hour burden per report is 1.7 hours. The total estimated biennial respondent burden for all filers is 17,927 hours. The estimated average burden hour cost per report is $56.90, and the estimated total burden hour cost for all filers per biennial collection is $597,472.29.

Table 1—Projected Burden for Each EEO-5 Biennial Reporting Year
[N=10,500]
Staff job category | Percent in job category | Median hourly wage rate | Hours per report | Total burden hours | Cost per report | Total burden hour cost
Human Resource Specialists | 39.1 | $30.88 | 1.9 | 7,807 | $58.67 | $241,078.65
Executive-Level Staff | 15.9 | 48.12 | 1.7 | 2,829 | 81.80 | 136,153.91
Secretaries and Administrative Assistants | 14.1 | 21.19 | 1.8 | 2,674 | 38.14 | 56,659.49
Bookkeeping, Accounting, and Auditing Clerks | 14.0 | 22.05 | 1.3 | 1,904 | 28.67 | 41,993.03
Administrative Services and Facilities Managers | 7.7 | 48.98 | 1.4 | 1,137 | 68.57 | 55,707.84
Database Administrators and Architects | 3.0 | 53.91 | 1.3 | 414 | 70.08 | 22,301.40
Other ᵃ | 6.1 | 37.52 | 1.8 | 1,161 | 67.54 | 43,577.97
Average |  |  | 1.7 |  | 56.90 |
Total ᵇ | 100.0 |  |  | 17,927 |  | 597,472.29
ᵃ The average hourly wage rate for the “Other” category was derived by taking the weighted mean average of the hourly wage rates of the six BLS job categories listed in the above table.
ᵇ These estimates are based upon filers' use of the EEO-5 Online Filing System (OFS) to submit reports electronically because paper submissions are no longer accepted. Electronic filing remains the most efficient, accurate, and secure means of reporting for respondents required to submit EEO-5 data.

Dated: December 2, 2024.
For the Commission.
Charlotte A. Burrows,
Chair.

[FR Doc. 2024-28581 Filed 12-5-24; 8:45 am]

BILLING CODE 6570-01-P